ENVIRONMENTAL PROTECTION AGENCY

[FRL-9259-01-OW]

Meeting of the National Drinking Water Advisory Council

AGENCY: Environmental Protection Agency (EPA).

ACTION: Notice of a public meeting.

SUMMARY: The U.S. Environmental Protection Agency's (EPA) Office of Ground Water and Drinking Water is announcing a virtual meeting of the National Drinking Water Advisory Council (NDWAC or Council) as authorized under the Safe Drinking Water Act (SDWA). During this meeting the NDWAC will primarily focus discussions on developing advice and recommendations to EPA on targeted issues related to revisions to the Consumer Confidence Report rule, as required by the America's Water Infrastructure Act of 2018.

DATES: The meeting will be held on December 1, 2021, from 10:30 a.m. to 5:30 p.m., eastern time; and on December 2, 2021 from 10:00 a.m. to 5:30 p.m., eastern time.

ADDRESSES: This will be a virtual meeting. There will be no in-person gathering for this meeting. For more information about attending, providing oral statements, and accessibility for the meeting, as well as sending written comments, see the SUPPLEMENTARY INFORMATION section of this document.

FOR FURTHER INFORMATION CONTACT: Elizabeth Corr, NDWAC Designated Federal Officer, Office of Ground Water and Drinking Water (Mail Code 4601), U.S. Environmental Protection Agency, 1200 Pennsylvania Avenue NW, Washington, DC 20460; telephone number: (202) 564-3798; email address: corr.elizabeth@epa.gov.

SUPPLEMENTARY INFORMATION:

Attending the Meeting: The meeting will be open to the general public. The meeting agenda, including additional topics for discussion, and information on how to register for and attend the meeting online will be provided on EPA's website at https://www.epa.gov/ndwac prior to the meeting.

Oral Statements: EPA will allocate one hour for the public to present oral comments during the meeting. Oral statements will be limited to five minutes per person during the public comment period. It is preferred that only one person present a statement on behalf of a group or organization. Persons interested in presenting an oral statement should send an email to Elizabeth Corr, at corr.elizabeth@epa.gov by noon, eastern time, on November 23, 2021.

Written Statements: Any person who wishes to file a written statement can do so before or after the Council meeting. Send written statements by email to corr.elizabeth@epa.gov or see the FOR FURTHER INFORMATION CONTACT section if sending statements by mail. Written statements received by noon, eastern time, on November 23, 2021, will be distributed to all members of the Council prior to the meeting. Statements received after that time will become part of the permanent file for the meeting and will be forwarded to the Council members after conclusion of the meeting.

Accessibility: For information on access or services for individuals with disabilities, or to request accommodations for a disability, please contact Elizabeth Corr by email at corr.elizabeth@epa.gov, or by phone at (202) 564-3798, preferably at least 10 days prior to the meeting to allow as much time as possible to process your request.

National Drinking Water Advisory Council: The NDWAC was created by Congress on December 16, 1974, as part of the Safe Drinking Water Act (SDWA) of 1974, Public Law 93-523, 42 U.S.C. 300j-5, and is operated in accordance with the provisions of the Federal Advisory Committee Act (FACA), 5 U.S.C. App. 2. The NDWAC was established to advise, consult with, and make recommendations to the EPA Administrator on matters relating to activities, functions, policies, and regulations under SDWA. General information concerning the NDWAC is available at: https://www.epa.gov/ndwac.

Jennifer L. McLain,
Director, Office of Ground Water and Drinking Water.

[FR Doc. 2021-24941 Filed 11-15-21; 8:45 am]

BILLING CODE 6560-50-P